DEPARTMENT OF THE INTERIOR

National Park Service

[NPS-WASO-NRNHL-DTS#-38768; PPWOCRADI0, PCU00RP14.R50000]

National Register of Historic Places; Notification of Pending Nominations and Related Actions

AGENCY: National Park Service, Interior.

ACTION: Notice.

SUMMARY: The National Park Service is soliciting electronic comments on the significance of properties nominated before September 14, 2024, for listing or related actions in the National Register of Historic Places.

DATES: Comments should be submitted electronically by October 7, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 14, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name(if applicable), Address/Boundary, City, Vicinity, Reference Number.

CALIFORNIA

Los Angeles County

Santa Monica Civic Auditorium, 1855 Main Street, Santa Monica, SG100010919

San Bernardino County

San Antonio Heights Grove House, 425 E 24th St, San Antonio Heights, vicinity, SG100010920

IDAHO

Elmore County

Hammett School, (Public School Buildings in Idaho MPS), 499 S. School House Rd., Hammett, MP100010906

Idaho County

Riggins High School

(Public School Buildings in Idaho MPS), 121 N. Main Street, Riggins, MP100010901

Latah County

Sperry Bridge, (Metal Truss Highway Bridges of Idaho MPS), Sperry Grade Road, Kendrick, MP100010900

IOWA

Des Moines County

Burlington High School, 1201 Valley Street, Burlington, SG100010911

MISSISSIPPI

Hinds County

WJDX Transmitter Building, 5826 North State Street, Jackson, SG100010904

NORTH DAKOTA

Nelson County

Ophaug, Nels, Barn (Common Farm and Ranch Barns in North Dakota MPS), 3087 116th Ave NE, McVille, MP100010902

Towner County

Towner County Fairgrounds Pavilion, 900 1st Street, Cando, SG100010912

OHIO

Franklin County

Grieve, Martin and Louise, House, 5858 Dublin Road, Dublin, SG100010897

Monroe County

Monroe Theatre, 104 North Main Street, Woodsfield, SG100010914

Richland County

Shelby Oakland Mausoleum, 116 S. Gamble St., Shelby, SG100010896

PENNSYLVANIA

Beaver County

Irish-Townsend House, 1229 7th Avenue, New Brighton, SG100010922

RHODE ISLAND

Providence County

Federal Street Historic District, 122, 142 & 160 Clinton Street and 1, 43, & 77 Federal Street, Woonsocket, SG100010921

SOUTH CAROLINA

Charleston County

Spring Street Methodist Church, 68 Spring St., Charleston, SG100010910

Laurens County

Gray Court Downtown Historic District, 329-425 W. Main Street, Gray Court, SG100010908

Richland County

South Carolina Archives Building, 1430 Senate Street, Columbia, SG100010909

VIRGINIA

Frederick County

Green Spring Mill, 617 Green Spring Road, Winchester, SG100010899

Virginia Beach INDEPENDENT CITY

Pleasant Ridge School Historic District, 1392 Princess Anne Road, Virginia Beach, SG100010898

Chesapeake Beach Historic District

Fentress Avenue, Lauderdale Avenue, Lookout Road, Pleasure Avenue, and Seaview Avenue, Virginia Beach, SG100010915

WASHINGTON

Skagit County

Hoogdal School, (Rural Public Schools of Washington State MPS), 22159 Grip Road, Sedro Woolley, MP100010917

An owner objection was received for the following resource(s):

CALIFORNIA

San Francisco County

Lane Medical Library of Stanford University—Lane Medical Library, 2395 Sacramento Street-2040 Webster Street, San Francisco, SG100010916

NEW YORK

Kings County

Bush Terminal Historic District, Roughly bounded by the Bay Ridge Channel, 50th Street, 2nd Avenue, 39th Street, 3rd Avenue, and 32nd Street., Brooklyn, SG100010907

Nomination(s) submitted by Federal Preservation Officers:

The State Historic Preservation Officer reviewed the following nomination(s) and responded to the Federal Preservation Officer within 45 days of receipt of the nomination(s) and supports listing the properties in the National Register of Historic Places.

DISTRICT OF COLUMBIA

District of Columbia

Federal Office Buildings 10A and 10B, 600 and 800 Independence Avenue SW, Washington, SG100010903

WASHINGTON

King County

Federal Office Building, 915 Second Avenue, Seattle, SG100010918

Authority: Section 60.13 of 36 CFR part 60.

Sherry A. Frear,
Chief, National Register of Historic Places/National Historic Landmarks Program.

[FR Doc. 2024-21514 Filed 9-19-24; 8:45 am]

BILLING CODE 4312-52-P